ENVIRONMENTAL PROTECTION AGENCY

[EPA-HQ-OPP-2010-0968; FRL-9345-7]

Issuance of an Experimental Use Permit

AGENCY: Environmental Protection Agency (EPA).

ACTION: Notice.

SUMMARY: EPA has granted an experimental use permit (EUP) to the pesticide applicant, Valent USA Corporation. An EUP permits use of a pesticide for experimental or research purposes only in accordance with the limitations in the permit.

FOR FURTHER INFORMATION CONTACT: Autumn Metzger, Registration Division (7505P), Office of Pesticide Programs, Environmental Protection Agency, 1200 Pennsylvania Ave. NW., Washington, DC 20460-0001; telephone number: (703) 305-5314; email address: metzger.autumn@epa.gov.

SUPPLEMENTARY INFORMATION:

I. General Information

A. Does this action apply to me?

This action is directed to the public in general. Although this action may be of particular interest to those persons who conduct or sponsor research on pesticides, the Agency has not attempted to describe all the specific entities that may be affected by this action. If you have any questions regarding the information in this action, consult the person listed under FOR FURTHER INFORMATION CONTACT.

B. How can I get copies of this document and other related information?

EPA has established a docket for this action under docket identification (ID) number EPA-HQ-OPP-2010-0968. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. EUP

EPA has issued the following EUP:

59639-EUP-16. Issuance. Valent USA Corporation, P.O. Box 8025, Walnut Creek, CA 94596. This EUP allows the use of 2,500 pounds of the insecticide etoxazole on up to 20,000 acres of field corn, pop corn or corn grown for seed to evaluate the control of mites over larger scale and commercial plots. The program is authorized only in the State of California. The EUP is effective from March 15, 2012 to March 14, 2013.

Authority: 7 U.S.C. 136c.

List of Subjects

Environmental protection, Agricultural commodities, Experimental use permits, Pesticides and pest.

Dated: April 18, 2012.
Lois Rossi,
Director, Registration Division, Office of Pesticide Programs.

[FR Doc. 2012-10318 Filed 5-1-12; 8:45 am]

BILLING CODE 6560-50-P